FEDERAL RESERVE SYSTEM

Change in Bank Control Notices; Acquisition of Shares of Bank or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 5, 2010.

A. Federal Reserve Bank of Philadelphia (Michael E. Collins, Senior Vice President) 100 North 6th Street, Philadelphia, Pennsylvania 19105-1521:

1. WLR SBI Acquisition Company, LLC; WL Ross & Co. LLC; WLR Recovery Fund IV, L.P.; WLR IV Parallel ESC, L.P.; Invesco North America Holdings, Inc.; Invesco WLR IV Associates LLC; WLR Recovery Associates IV LLC; WL Ross Group L.P.; and EL Vedado LLC, all of New York, New York; Wilbur L. Ross, Jr., Palm Beach, Florida; Invesco Ltd.; IVZ, Inc.; Invesco Group Services, Inc.; Invesco Advisers, Inc.; and Invesco Private Capital, Inc., all of Atlanta, Georgia; Invesco Holding Company Limited, London, United Kingdom; and Invesco AIM Management Group, Inc., Houston, Texas; to acquire voting shares of Sun Bancorp, Inc., and thereby indirectly acquire voting shares of Sun National Bank, both of Vineland, New Jersey.

Board of Governors of the Federal Reserve System, July 16, 2010.
Robert deV. Frierson,
Deputy Secretary of the Board.

[FR Doc. 2010-17760 Filed 7-20-10; 8:45 am]

BILLING CODE 6210-01-S